DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Shipper's Export Declaration (SED) Program.

Form Number(s): 7525-V, Automated Export System (AES).

Agency Approval Number: 0607-0152.

Type of Request: Revision of a currently approved collection.

Burden: 1,284,949 hours.

Number of Respondents: 200,000.

Avg. Hours Per Response: 7572-V=11 minutes; AES=3 minutes.

Needs and Uses: The Census Bureau requests OMB clearance of the paper and electronic forms it uses in the Shipper's Export Declaration (SED) Program. We are requesting clearance only for the Form 7525-V, “Shipper's Export Declaration” and the Automated Export System (AES). Sponsorship of Form 7513, “Shipper's Export Declaration (SED) for In-Transit Goods” is being transferred to the U.S. Army Corps of Engineers and they will be submitting a clearance request for that form. The Automated Export Reporting Program (AERP) was terminated in December of 1999 and users of that system are currently reporting through the AES or the paper SED. We are also eliminating the Form 7525-V-Alternate (Intermodal) as a shipper's export reporting document.

Further, we are proposing changes to Form 7525-V that will primarily serve to: (1) Delete unused or outdated data fields; (2) update the forms with current Federal Government agency names; (3) make the data elements on the paper SED consistent with the data elements on the AES record; and (4) make revisions consistent with the provisions of the Census Bureau's final rule on Exporter (U.S. Principal Party In Interest (USPPI)) and Forwarding or other Agent responsibilities in preparing the SED or AES record.

The Census Bureau has determined that making the changes described above to the Form 7525-V-Alternate (Intermodal) would result in making that Form incompatible with the ocean bill of lading, with which it was intended to align, thereby negating its utility to the vessel exporting community. A Form 7525-V or electronic AES record may be completed in its place.

The Census Bureau will allow the trade community a grace period of 180 days (April 1, 2001) to deplete their stock of current SED forms. The Census Bureau encourages the trade community to begin using the revised Form 7525-V as of October 1, 2000. However, during the grace period the Census Bureau will allow use of both the old and revised Form 7525-V and Form 7525-V-Alternate (Intermodal). As of April 1, 2001, only Form 7525-V and the AES will be accepted by the U.S. Customs Service and the Census Bureau as a means of reporting shipper's export declaration information.

The Foreign Trade Division (FTD), Census Bureau, is also intending to facilitate the submission of SED information by providing the trade community with a software package, free of charge, that will allow the trade community to input SED information and submit it electronically through AESDirect. The Census Bureau will inform the trade community through the FTD website and AES newsletter, as to when this software will be available. The Census Bureau will also inform the trade community of the grace period through periodic updates on the FTD website.

The SED form and the AES electronic equivalent are the means by which the Census Bureau collects and compiles U.S. trade statistics. The official export statistics provide a basic component for the compilation of the U.S. position on merchandise trade. These data are an essential component of the monthly totals on International U.S. Trade in Goods and Services, a leading economic indicator and primary component of the Gross Domestic Product (GDP).

Form 7525-V and the AES record also provide information for export control purposes. This information is used to detect and prevent the export of certain commodities (for example, high technology or military) to unauthorized destinations or end users.

Affected Public: Businesses or other for-profit organizations.

Frequency: On occasion.

Respondent's Obligation: Mandatory.

Legal Authority: Title 13, U.S.C., Chapter 9, Sections 301-307; Title 15, CFR, Part 30 “Foreign Trade Statistics Regulations.”

OMB Desk Officer: Susan Schechter, (202) 395-5103.

Copies of the above information collection proposal can be obtained by calling or writing Linda Engelmeier, DOC Forms Clearance Officer, (202) 482-3129, Department of Commerce, room 6086, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: August 15, 2000.
Madeleine Clayton,
Management Analyst, Office of the Chief Information Officer.

[FR Doc. 00-21144 Filed 8-18-00; 8:45 am]

BILLING CODE 3510-07-P